DEPARTMENT OF COMMERCE

International Trade Administration

[Application No. 92-17A001]

Export Trade Certificate of Review

ACTION: Notice of issuance of an amended Export Trade Certificate of Review to Aerospace Industries Association of America, Inc., Application No. 92-17A001.

SUMMARY: The Secretary of Commerce, through the Office of Trade and Economic Analysis (OTEA), issued an amended Export Trade Certificate of Review (Certificate) to Aerospace Industries Association of America, Inc., on March 11, 2024.

FOR FURTHER INFORMATION CONTACT: Joseph Flynn, Director, Office of Trade and Economic Analysis (OTEA), International Trade Administration, (202) 482-5131 (this is not a toll free number) or email at etca@trade.gov.

SUPPLEMENTARY INFORMATION: Title III of the Export Trading Company Act of 1982 (15 U.S.C. 4011-21) (the Act) authorizes the Secretary of Commerce to issue Export Trade Certificates of Review. An Export Trade Certificate of Review protects the holder and the members identified in the Certificate from State and Federal government antitrust actions and from private treble damage antitrust actions for the export conduct specified in the Certificate and carried out in compliance with its terms and conditions. The regulations implementing Title III are found at 15 CFR part 325. OTEA is issuing this notice pursuant to 15 CFR 325.6(b), which requires the Secretary of Commerce to publish a summary of the certification in the Federal Register. Under section 305(a) of the Act and 15 CFR 325.11(a), any person aggrieved by the Secretary's determination may, within 30 days of the date of this notice, bring an action in any appropriate district court of the United States to set aside the determination on the ground that the determination is erroneous.

Description of Certified Conduct

Aerospace Industries Association of America, Inc.'s Certificate has been amended as follows:

1. Added the following companies as new Members of the Certificate within the meaning of section 325.2(l) of the Regulations (15 CFR 325.2(l)):

• Albany Engineered Composites; Rochester, NH (controlling entity Albany International Corp.; Rochester, NH)

• ALTEN Technology USA, Inc.; Troy, MI (controlling entity The ALTEN Group; Boulogne-Billancourt, France)

• Archer Aviation Inc.; Palo Alto, CA

• ATLAS Space Operations, Inc.; Traverse City, MI

• Bain & Company, Inc.; Boston, MA

• BlackSky Technology Inc.; Herndon, VA

• Chicago Precision, Inc.; Elk Grove Village, IL

• Cre8tive Technology and Design, Inc.; San Diego, CA

• Deltek, Inc.; Herndon, VA

• Epirus, Inc.; Los Angeles, CA

• Estes Energetics; Penrose, CO

• ExoAnalytic Solutions Inc.; Foothill Ranch, CA

• GKN Aerospace North America; Westlake, TX (controlling entity GKN Aerospace Services Limited Solihull, UK)

• GXA Consulting LLC; Ely, IA

• Ivis Technologies, LLC; Phoenix, AZ

• Janes Capital Partners, Inc.; Irvine, CA

• LeoLabs, Inc.; Menlo Park, CA

• LOAR Group; White Plains, NY

• MapLarge, Inc.; Atlanta, GA

• Merlin Labs, Inc.; Boston, MA

• Overair, Inc.; Santa Ana, CA

• Primer AI; Arlington, VA

• RCM Technologies, Inc.; Pennsauken, N.J.

• Riveron Consulting, LLC; Dallas, TX

• Rocket Lab USA, Inc.; Long Beach, CA

• Shift5; Rosslyn, VA

• Slingshot Aerospace, Inc.; Austin, TX

• The Haskell Company; Jacksonville, FL

• TransDigm Group, Inc.; Cleveland, OH

• True Anomaly; Centennial, CO

• TTM Technologies Inc.; Santa Ana, CA

• United Launch Alliance; Centennial, CO

• Ursa Major Technologies, Inc.; Berthoud, CO

• Weldaloy Specialty Forgings; Warren, MI

• Westinghouse Electric Company LLC; Cranberry Township, PA

2. Removed the following companies as Members of AIA's Certificate:

• ADDMAN Tech Production Center

• Aernnova Aerospace

• Aerojet Rocketdyne

• AMETEK Pacific Design Technologies

• Apex International Management Company

• Astronics Corporation

• Avascent

• CAE USA

• ENSCO, Inc.

• Ferra Aerospace, Inc.

• IBM Corporation

• Metis Flight Research Associates

• Microsoft Azure

• MTI Motion

• Net-Inspect, LLC

• Plexus Corporation

• PTC Inc.

• SB Technology, Inc.

• Sunbelt Design and Development, Inc.

• SysArc Inc.

• Tip Technologies

• Virgin Orbit Holdings, Inc.

3. Changed names or addresses for the following Members:

• ATI Defense of Pittsburgh, PA is now ATI Inc. located in Dallas, TX.

• AUSCO, Inc. of Port Washington, NY is now located in Farmingdale, NY.

• Exosonic, Inc. of Los Angeles, CA is now located in Torrance, CA.

• General Electric Aviation of Cincinnati, OH is now GE Aerospace at the same location.

• Parker Meggitt USA Inc. of Simi Valley, CA is now Parker Aerospace at the same location.

• Raytheon Technologies Corporation of Arlington, VA is now RTX Corporation at the same location.

• Securitas Critical Information Services, Inc. of Springfield, VA is now located in Herndon, VA.

• Sierra Space Corporation of Broomfield, CO is now Sierra Nevada Corporation located in Sparks, NV.

• Verify, Inc. of Irvine, CA is now located in Costa Mesa, CA.

List of Members, as Amended

• 3M Company; St. Paul, MN

• AAR Corp.; Wood Dale, IL

• Accenture; Chicago, IL

• Acorn Growth Companies, LLC; Oklahoma City, OK

• Acutec Precision Aerospace, Inc.; Meadville, PA

• ACUTRONIC USA, Inc.; Pittsburgh, PA

• ADI American Distributors LLC; Randolph, NJ

• Advanced Logistics for Aerospace (ALA); Bethpage, NY

• AeroMed Group; Charlotte, NC

• Aero-Mark, LLC; Ontario, CA

• AeroVironment, Inc.; Arlington, VA

• Aireon LLC; McLean, VA

• Albany Engineered Composites, Rochester, NH

• AlixPartners, LLP; New York, NY

• Allied Telesis, Inc.; Bothell, WA

• ALTEN Technology USA, Inc., Troy, MI

• Alvarez & Marsal Holdings, LLC, New York, NY

• Amazon.com Inc.; Seattle, WA

• American Pacific Corporation; Cedar City, UT

• Ansys, Inc.; Canonsburg, PA

• Applied Composites; Lake Forest, CA

• Archer Aviation Inc.; Palo Alto, CA

• Astronautics Corporation of America; Oak Hill, WI

• Astroscale U.S. Inc.; Denver, CO

• AT Kearney Public Sector and Defense Services; Arlington, VA

• Athena Manufacturing, LP; Austin, TX

• ATI Inc.; Dallas, TX

• ATLAS Space Operations, Inc.; Traverse City, MI

• Aura Network Systems, Inc.; McLean, VA

• AUSCO, Inc.; Farmingdale, NY

• Aviation Management Associates, Inc.; Washington, DC

• BAE Systems, Inc.; Falls Church, VA

• Bain & Company, Inc.; Boston, MA

• Ball Aerospace & Technologies Corp.; Boulder, CO

• Belcan Corporation; Cincinnati, OH

• Beta Technologies; South Burlington, VT

• BlackSky Technology Inc.; Herndon, VA

• Boom Technology, Inc.; Denver, CO

• Booz Allen Hamilton; McClean, VA

• Boston Consulting Group; Boston, MA

• BRPH Architects Engineers, Inc.; Melbourne, FL

• Burns & McDonnell Engineering Corporation, Inc.; Kansas City, MO

• BWX Technologies, Inc.; Lynchburg, VA

• CADENAS PARTsolutions, LLC; Cincinnati, OH

• Cadence Design Systems, Inc.; San Jose, CA

• Capewell Aerial Systems; South Windsor, CT

• Capgemini; New York, NY

• Celestica Inc.; Toronto, Canada

• Chicago Precision, Inc.; Elk Grove Village, IL

• Click Bond, Inc.; Carson City, NV

• Cobham Advanced Electronic Solutions (CAES); Arlington, VA

• COMSPOC Corporation; Exton, PA

• CPI Aerostructures, Inc.; Edgewood, NY

• Crane Aerospace & Electronics; Lynnwood, WA

• Cre8tive Technology and Design, Inc.; San Diego, CA

• Deloitte Consulting LLP; New York, NY

• Deltek, Inc.; Herndon, VA

• Ducommun Incorporated; Santa Ana, CA

• DXC Technology Company, Ashburn, VA

• Eaton Corporation; Cleveland, OH

• Elbit Systems of America, LLC; Fort Worth, TX

• Electra.aero; Manassas, VA

• Embraer Aircraft Holding Inc.; Fort Lauderdale, FL

• Enjet Aero, LLC; Overland Park, KS

• Epirus, Inc.; Los Angeles, CA

• EPS Corporation; Tinton Falls, NJ

• Ernst & Young LLP; New York, NY

• Estes Energetics; Penrose, CO

• ExoAnalytic Solutions Inc.; Foothill Ranch, CA

• Exosonic, Inc.; Torrance, CA

• Exostar LLC; Herndon, VA

• FTG Circuits, Inc.; Chatsworth, CA

• GE Aerospace; Cincinnati, OH

• General Atomics Aeronautical Systems, Inc.; Poway, CA

• General Dynamics Corporation; Reston, VA

• GKN Aerospace North America; Westlake, TX

• Google, LLC; Mountain View, CA

• GSE Dynamics, Inc.; Hauppauge, NY

• GXA Consulting LLC; Ely, IA

• HCL America Inc.; Sunnyvale, CA

• HEICO Corporation; Hollywood, FL

• Hexcel Corporation; Stamford, CT

• Honeywell Aerospace; Phoenix, AZ

• Howmet Aerospace Inc.; Pittsburgh, PA

• Huntington Ingalls Industries, Inc.; Newport News, VA

• Infosys; Richardson, TX

• Interos, Inc.; Arlington, VA

• Iron Mountain, Inc.; Boston, MA

• Ivis Technologies, LLC; Phoenix, AZ

• Jabil Defense & Aerospace Services LLC; St. Petersburg, FL

• Janes Capital Partners, Inc.; Irvine, CA

• Joby Aviation, Inc.; Santa Cruz, CA

• Kaman Corporation; Bloomfield, CT

• KPMG LLP; New York, NY

• Kratos Defense & Security Solutions, Inc.; Round Rock, TX

• L3Harris Technologies, Inc.; Melbourne, FL

• Leidos, Inc; Reston, VA

• LeoLabs, Inc.; Menlo Park, CA

• LOAR Group; White Plains, NY

• LS Technologies, LLC; Fairfax, VA

• MapLarge, Inc.; Atlanta, GA

• Marotta Controls, Inc.; Montville, NJ

• Mercury Systems, Inc.; Andover, MA

• Merlin Labs, Inc.; Boston, MA

• Microchip Technology Incorporated; Chandler, AZ

• National Technical Systems, Inc.; Calabasas, CA

• New England Air Foil Products, Inc.; Farmington, CT

• Nimbis Services, Inc.; Oro Valley, AZ

• Nokia US; Murray Hill, NJ

• Norsk Titanium US Inc.; Plattsburgh, NY

• Northrop Grumman Corporation; Falls Church, VA

• Oliver Wyman Inc.; New York, NY

• O'Neil & Associates, Inc.; Miamisburg, OH

• Overair, Inc.; Santa Ana, CA

• Pacific Forge Incorporated; Fontana, CA

• Parker Aerospace; Simi Valley, CA

• PCX Aerosystems; Santa Ana, CA

• Perryman Company; Houston, PA

• PPG Aerospace-Sierracin Corporation; Sylmar, CA

• Primer AI; Arlington, VA

• PWC Aerospace & Defense Advisory Services; McLean, VA

• RCM Technologies, Inc.; Pennsauken, NJ

• RTX Corporation; Arlington, VA

• Reaction Engines, Inc.; Denver, CO

• Relativity Space, Inc.; Long Beach, CA

• Reliable Robotics Corporation; Mountain View, CA

• Rhinestahl Corporation; Mason, OH

• Riveron Consulting, LLC; Dallas, TX

• Rocket Lab USA, Inc.; Long Beach, CA

• Rolls-Royce North America Inc.; Reston, VA

• Salesforce, Inc.; San Francisco, CA

• SAP America, Inc.; Newtown Square, PA

• Securitas Critical Infrastructure Services, Inc.; Herndon, VA

• Shift5; Rosslyn, VA

• SI2 Technologies; North Billerica, MA

• Siemens Government Technologies, Inc.; Reston, VA

• Sierra Nevada Corporation; Sparks, NV

• SkyThread Corporation; Irvine, CA

• Slingshot Aerospace, Inc.; Austin, TX

• Solvay; Alpharetta, GA

• Spartronics LLC; Williamsport, PA

• Special Aerospace Services, LLC; Boulder, CO

• Spirit AeroSystems; Wichita, KS

• Spright; Gilbert, AZ

• Stratolaunch LLC; Mojave, CA

• Supernal LLC; Washington, DC

• SupplyOn North America, Inc.; Greer, SC

• Synergetic Technologies Group, Inc.; La Verne, CA

• Tata Consultancy Services; Edison, NJ

• Textron Inc.; Providence, RI

• The Aerospace Corporation, Civil Systems Group; El Segundo, CA

• The Boeing Company; Chicago, IL

• The Haskell Company; Jacksonville, FL

• The Lundquist Group LLC; New York, NY

• The Padina Group, Inc.; Lancaster, PA

• Therm, Incorporated; Ithaca, NY

• TransDigm Group, Inc.; Cleveland, OH

• Tribus Aerospace Corporation; Poway, CA

• TriMas Aerospace; Irvine, CA

• Triumph Group, Inc.; Berwyn, PA

• True Anomaly; Centennial, CO

• TTM Technologies Inc.; Santa Ana, CA

• Umbra Lab, Inc.; Santa Barbara, CA

• Unitech Composites Inc.; Hayden, ID

• United Launch Alliance; Centennial, CO

• Ursa Major Technologies, Inc.; Berthoud, CO

• Verify, Inc.; Costa Mesa, CA

• VIASAT, INC.; Carlsbad, CA

• Virgin Galactic, LLC; Las Cruces, NM

• Weldaloy Specialty Forgings; Warren, MI

• Westinghouse Electric Company LLC; Cranberry Township, PA

• Wisk Aero LLC; Mountain View, CA

• Woodward, Inc.; Fort Collins, CO

• World View Enterprises, Inc.; Tucson, AZ

The effective date of the Certificate is December 26, 2023, the date on which the application to amend was deemed submitted.

Dated: March 19, 2024.
Joseph Flynn,
Director, Office of Trade and Economic Analysis, International Trade Administration, U.S. Department of Commerce.

[FR Doc. 2024-06142 Filed 3-21-24; 8:45 am]

BILLING CODE 3510-DR-P